DEPARTMENT OF VETERANS AFFAIRS

Cost-Based and Inter-Agency Billing Rates for Medical Care or Services Provided by the Department of Veterans Affairs for Fiscal Year 2021

AGENCY: U.S. Department of Veterans Affairs.

ACTION: Notice.

SUMMARY: This document updates the Cost-Based and Inter-Agency billing rates for medical care or services provided by the U.S. Department of Veterans Affairs (VA) furnished in certain circumstances.

APPLICABLE DATE: The rates set forth herein are effective October 1, 2020.

FOR FURTHER INFORMATION CONTACT: Romona Greene, Office of Community Care, Revenue Operations, Payer Relations and Services, Rates and Charges (10D1C1), Veterans Health Administration, Department of Veterans Affairs, 810 Vermont Avenue NW, Washington, DC 20420; telephone: 202-382-2521 (this is not a toll-free number).

SUPPLEMENTARY INFORMATION: VA's methodology for computing Cost-Based and Inter-Agency rates for medical care or services provided by VA is set forth in section 17.102(h) of title 38 Code of Federal Regulations (CFR). Two sets of rates are obtained by applying this methodology, Cost-Based and Inter-Agency.

Cost-Based rates apply to medical care and services that are provided by VA under 38 CFR 17.102(a), (b), (d) and (g), respectively, in the following circumstances:

• In error or based on tentative eligibility;

• In a medical emergency;

• To pensioners of allied nations; and

• For research purposes in circumstances under which the medical care appropriation shall be reimbursed from the research appropriation.

Inter-Agency rates apply to medical care and services that are provided by VA under § 17.102(c) and (f), respectively, in the following circumstances when the care or services provided are not covered by any applicable sharing agreement in accordance with § 17.102(e):

• To beneficiaries of the Department of Defense or other Federal agencies; and

• To military retirees with chronic disability.

The calculations for the Cost-Based and Inter-Agency rates are the same with two exceptions. Inter-Agency rates are all-inclusive and are not broken down into three components (i.e., Physician; Ancillary; and Nursing, Room and Board), and do not include standard fringe benefit costs that cover Government employee retirement, disability costs, and return on fixed assets. When VA pays for medical care or services from a non-VA source under circumstances in which the Cost-Based or Inter-Agency rates would apply if the care or services had been provided by VA, the charge for such care or services will be the actual amount paid by VA for the care or services. Inpatient charges will be at the per diem rates shown for the type of bed section or discrete treatment unit providing the care.

The following table depicts the Cost-Based and Inter-Agency rates that are effective October 1, 2020, and will remain in effect until the next fiscal year Federal Register update. These rates supersede those established by the Federal Register notice published on September 30, 2019, at 84 FR 51728.

| Cost-based rates | Inter-agency rates
A. Hospital Care per inpatient day
General Medicine:
All Inclusive Rate | $4,626 | $4,473
Physician | 554 |
Ancillary | 1,206 |
Nursing Room and Board | 2,866 |
Neurology:
All Inclusive Rate | 4,433 | 4,280
Physician | 649 |
Ancillary | 1,170 |
Nursing Room and Board | 2,614 |
Rehabilitation Medicine:
All Inclusive Rate | 3,090 | 2,979
Physician | 351 |
Ancillary | 944 |
Nursing Room and Board | 1,795 |
Blind Rehabilitation:
All Inclusive Rate | 2,073 | 1,998
Physician | 167 |
Ancillary | 1,030 |
Nursing Room and Board | 876 |
Spinal Cord Injury:
All Inclusive Rate | 3,032 | 2,924
Physician | 376 |
Ancillary | 763 |
Nursing Room and Board | 1,893 |
Surgery:
All Inclusive Rate | 8,205 | 7,935
Physician | 904 |
Ancillary | 2,489 |
Nursing Room and Board | 4,812 |
General Psychiatry:
All Inclusive Rate | 2,403 | 2,314
Physician | 227 |
Ancillary | 378 |
Nursing Room and Board | 1,798 |
Substance Abuse (Alcohol and Drug Treatment):
All Inclusive Rate | 2,327 | 2,240
Physician | 222 |
Ancillary | 538 |
Nursing Room and Board | 1,567 |
Psychosocial Residential Rehabilitation Program:
All Inclusive Rate | 306 | 297
Physician | 19 |
Ancillary | 32 |
Nursing Room and Board | 255 |
Intermediate Medicine:
All Inclusive Rate | 3,029 | 2,928
Physician | 149 |
Ancillary | 444 |
Nursing Room and Board | 2,436 |
Poly-trauma Inpatient:
All Inclusive Rate | 3,303 | 3,165
Physician | 375 |
Ancillary | 1,009 |
Nursing Room and Board | 1,919 |
B. Nursing Home Care, Per Day
All Inclusive Rate | 1,504 | 1,450
Physician | 47 |
Ancillary | 203 |
Nursing Room and Board | 1,254 |
C. Outpatient Medical Treatments
Outpatient Visit (to include Ineligible Emergency Dental Care) | 409 | 396
Outpatient Physical Medicine & Rehabilitation Service Visit | 241 | 231
Outpatient Poly-trauma/Traumatic Brain Injury | 643 | 622

Signing Authority

The Secretary of Veterans Affairs, or designee, approved this document and authorized the undersigned to sign and submit the document to the Office of the Federal Register for publication electronically as an official document of the Department of Veterans Affairs. Brooks D. Tucker, Acting Chief of Staff, Department of Veterans Affairs, approved this document on July 22, 2020 for publication.

Luvenia Potts,
Regulation Development Coordinator, Office of Regulation Policy & Management, Office of the Secretary, Department of Veterans Affairs.

[FR Doc. 2020-16323 Filed 7-27-20; 8:45 am]

BILLING CODE 8320-01-P